DEPARTMENT OF AGRICULTURE

Animal and Plant Health Inspection Service

[Docket No. APHIS-2021-0031]

National Wildlife Services Advisory Committee; Intent To Reestablish

AGENCY: Animal and Plant Health Inspection Service, USDA.

ACTION: Notice of intent to reestablish.

SUMMARY: Pursuant to the Federal Advisory Committee Act, notice is hereby given that the Secretary of Agriculture (Secretary) intends to reestablish the National Wildlife Services Advisory Committee (the Committee) for a 2-year period. The Secretary has determined that the Committee is necessary and in the public interest.

FOR FURTHER INFORMATION CONTACT: Ms. Carrie Joyce, Designated Federal Officer, Wildlife Services, APHIS, 4700 River Road, Unit 87, Riverdale, MD 20737; carrie.e.joyce@usda.gov; (301) 851-3999.

SUPPLEMENTARY INFORMATION: The purpose of the National Wildlife Services Advisory Committee (the Committee) is to advise the Secretary of Agriculture on policies, program issues, and research needed to conduct the Wildlife Services program. The Committee also serves as a public forum enabling those affected by the Wildlife Services program to have a voice in the program's policies.

Date: June 25, 2021.
Cikena Reid,
USDA Committee Management Officer.

[FR Doc. 2021-14032 Filed 6-30-21; 8:45 am]

BILLING CODE 3410-34-P